FEDERAL EMERGENCY MANAGEMENT AGENCY

Open Meeting, Technical Mapping Advisory Council

AGENCY: Federal Emergency Management Agency (FEMA).

ACTION: Notice of teleconference meeting.

SUMMARY: In accordance with § 10(a)(2) of the Federal Advisory Committee Act, 5 U.S.C. App. 1, the Federal Emergency Management Agency gives notice that the following meeting will be held:

Name: Technical Mapping Advisory Council.

Date of Meeting: April 18, 2000.

Place: The FEMA Conference Operator in Washington, DC will administer the teleconference. Individuals interested in participating should call 1-800-320-4330 at the time of the teleconference. Individuals interested in participating should call 1-800-320-4330 at the time of the teleconference. Callers will be prompted for the conference code, #17, and they will then be connected through to the teleconference.

Time: 2 p.m. to 4 p.m., EST.

Proposed Agenda

1. Call to order.

2. Announcements.

3. Action on minutes from March 2000 meeting.

4. Review draft annual report text on privatization of Map Modernization Program objectives.

5. Review draft annual report text on cumulative effects of watershed development.

6. Discuss agenda for June and July 2000 meetings.

7. New business.

8. Adjournment.

Status: This meeting is open to the public.

FOR FURTHER INFORMATION CONTACT: Ms. Sally P. Magee, Federal Emergency Management Agency, 500 C Street SW., room 442, Washington, DC 20472, telephone (202) 646-8242 or by facsimile at (202) 646-4596.

SUPPLEMENTARY INFORMATION: Minutes of the meeting will be prepared and will be available upon request 30 days after they have been approved by the next Technical Mapping Advisory Council meeting in June 2000.

Dated: March 29, 2000.
Michael J. Armstrong,
Associate Director for Mitigation.

[FR Doc. 00-8500 Filed 4-5-00; 8:45 am]

BILLING CODE 6718-04-P